DEPARTMENT OF COMMERCE

International Trade Administration

[A-570-093]

Refillable Stainless Steel Kegs From the People's Republic of China: Rescission of Antidumping Duty Administrative Review; 2022-2023

AGENCY: Enforcement and Compliance, International Trade Administration, Department of Commerce.

SUMMARY: The U.S. Department of Commerce (Commerce) is rescinding the administrative review of the antidumping duty order on refillable stainless steel kegs (kegs) from the People's Republic of China (China) for the period of review (POR) December 1, 2022, through November 30, 2023.

DATES: Applicable August 22, 2024.

FOR FURTHER INFORMATION CONTACT: Joshua Weiner AD/CVD Operations, Office IV, Enforcement and Compliance, International Trade Administration, U.S. Department of Commerce, 1401 Constitution Avenue NW, Washington, DC 20230; telephone: (202) 482-3902.

SUPPLEMENTARY INFORMATION:

Background

On December 16, 2019, Commerce published in the Federal Register the antidumping duty order on kegs from China.¹ On December 1, 2023, Commerce published in the Federal Register a notice of opportunity to request an administrative review of the Order.² On January 2, 2024, Commerce received a timely request from Chinese exporters of subject merchandise, Guangzhou Jingye Machinery Co., Ltd. (Jingye) and Guangzhou Ulix Industrial & Trading Co., Ltd. (Ulix), in accordance with 19 CFR 351.213(b)(1), to conduct an administrative review of the Order of those two companies.³

¹ See Refillable Stainless Steel Kegs from the Federal Republic of Germany and the People's Republic of China: Antidumping Duty Orders, 84 FR 68405 (December 16, 2019) (Order).

² See Antidumping or Countervailing Duty Order, Finding, or Suspended Investigation; Opportunity to Request Administrative Review and Join Annual Inquiry Service List, 88 FR 83917 (December 1, 2023).

³ See Jingye and Ulix's Letter, “Request for Administrative Review,” dated January 2, 2024.

On February 8, 2024, Commerce published in the Federal Register a notice of initiation of administrative review with respect to imports of kegs exported by Jingye and Ulix, in accordance with section 751(a) of the Tariff Act of 1930, as amended (the Act), and 19 CFR 351.221(c)(1)(i).⁴ On February 21, 2024, we placed on the record U.S. Customs and Border Protection (CBP) data for entries of kegs from China during the POR, showing no reviewable POR entries and invited interested parties to comment.⁵ No interested party submitted comments to Commerce regarding the CBP data.

⁴ See Initiation of Antidumping and Countervailing Duty Administrative Reviews, 89 FR 8641 (February 8, 2024) (Initiation Notice).

⁵ See Memorandum, “Release of CBP Entry Data,” dated February 21, 2024.

On March 11, 2024, Ulix submitted a separate rate certification that it exported or sold subject merchandise to the United States during the POR.⁶ On July 16, 2024, Commerce issued a supplemental questionnaire to Ulix, and Ulix responded on July 26, 2024, certifying that it did not have a reviewable sale or entry during the POR and that their separate rate certification had been made in error.⁷

⁶ See Ulix's Letter, “Separate Rate Certification,” dated March 11, 2024, at 8.

⁷ See Commerce's Letter, “SRC Supplemental Questionnaire,” dated July 16, 2024; see also Ulix's Letter, “Rescission Letter,” dated July 26, 2024.

On July 22, 2024, Commerce tolled certain deadlines in this administrative proceeding by seven days.⁸ The deadline for the preliminary results is now September 9, 2024.

⁸ See Memorandum, “Tolling of Deadlines for Antidumping and Countervailing Duty Proceedings,” dated July 22, 2024.

On July 29, 2024, Commerce notified all interested parties of its intent to rescind the instant review in full because there were no reviewable, suspended entries of subject merchandise by either of the two companies listed in the Initiation Notice during the POR and invited comments from interested parties.⁹ No interested party submitted comments to Commerce in response to this notice.

⁹ See Memorandum, “Notice of Intent to Rescind Review,” dated July 29, 2024.

Rescission of Review

Pursuant to 19 CFR 351.213(d)(3), it is Commerce's practice to rescind an administrative review of an antidumping duty order when there are no reviewable entries of subject merchandise during the POR for which liquidation is suspended.¹⁰ Normally, upon completion of an administrative review, the suspended entries are liquidated at the antidumping duty assessment rate calculated for the review period.¹¹ Therefore, for an administrative review to be conducted, there must be a reviewable, suspended entry that Commerce can instruct CBP to liquidate at the antidumping duty assessment rate calculated for the review period.¹² As noted above, there were no entries of subject merchandise for either of the two companies listed in the Initiation Notice during the POR. Accordingly, in the absence of suspended entries of subject merchandise during the POR, we are hereby rescinding this administrative review, in its entirety, in accordance with 19 CFR 351.213(d)(3).

¹⁰ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023); and Lightweight Thermal Paper from Japan: Rescission of Antidumping Administrative Review; 2022-2023, 89 FR 18373 (March 13, 2024).

¹¹ See 19 CFR 351.212(b)(1).

¹² See 19 CFR 351.213(d)(3).

Assessment

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4).

Dated: August 16, 2024.
Scot Fullerton,
Acting Deputy Assistant Secretary for Antidumping and Countervailing Duty Operations.

[FR Doc. 2024-18823 Filed 8-21-24; 8:45 am]

BILLING CODE 3510-DS-P